DEPARTMENT OF ENERGY

Notice of Availability of the Draft Environmental Impact Statement for the FutureGen Project

AGENCY: Department of Energy.

ACTION: Notice of availability and public hearings.

SUMMARY: The U.S. Department of Energy (DOE) announces the availability of the document, Draft Environmental Impact Statement for the FutureGen Project (DOE/EIS-0394D), for public comment. The draft environmental impact statement (EIS) analyzes the potential environmental consequences of DOE's proposed action to provide federal funding for the FutureGen Project. The Project would include the planning, design, construction and operation of the FutureGen facility, a prototype electric power and hydrogen gas generating plant that employs coal gasification technology integrated with combined-cycle electricity generation and the capture and geologic sequestration of the carbon dioxide (CO2) emissions. The project would also include a research platform, which would be a principal feature of the prototype plant. The proposed action would be undertaken by a private sector, non-profit consortium of industrial participants known as the FutureGen Alliance, Inc., (the Alliance). The Alliance includes some of the largest coal producers and electricity generators in the world. Under a Cooperative Agreement between DOE and the Alliance, the Alliance would be primarily responsible for implementing the FutureGen Project, while DOE would guide the Alliance at a programmatic level to ensure the FutureGen Project's objectives are met.

The Department prepared the draft EIS in accordance with the National Environmental Policy Act of 1969 (NEPA) (42 U.S.C. 4321 et seq.), the Council on Environmental Quality (CEQ) regulations that implement the procedural provisions of NEPA (40 CFR parts 1500-1508), and DOE procedures implementing NEPA (10 CFR part 1021).

DOE identified four reasonable alternative sites for analysis in the EIS. Based on the EIS, DOE will determine which sites, if any, are acceptable to DOE to host the FutureGen Project. The four sites currently being considered for the FutureGen Project are: Mattoon, Illinois; Tuscola, Illinois; Jewett, Texas; and Odessa, Texas. The Project would incorporate cutting-edge research, as well as help develop promising new energy-related technologies at a commercial scale. Performance and economic test results from the FutureGen Project would be shared among all participants, industry, the environmental community, and the public.

The proposed power plant would be a 275-megawatt (MW) output Integrated Gasification Combined-Cycle (IGCC) system combined with CO2 capture and geologic storage at a rate of at least 1.1 million tons of CO2 per year. The research facilities and power plant would be constructed at one of the four alternative sites identified above. The potential environmental impacts of locating and operating the FutureGen Project at each of the alternative sites are evaluated in the draft EIS. The draft EIS also analyzed the No-Action Alternative, under which DOE would not share in the cost for constructing and operating the FutureGen Project. Without DOE funding, neither the Alliance nor U.S. industry would likely undertake the commercial scale integration of CO2 capture and geologic sequestration in deep saline reservoirs with a coal-fueled power plant in a comparable timeframe.

DATES: DOE invites the public to comment on the draft EIS during the public comment period, which ends July 16, 2007. DOE will consider all comments postmarked or received during the public comment period in preparing the final EIS, and will consider late comments to the extent practicable.

DOE will conduct public hearings near each of the four candidate sites to obtain comments on the draft EIS. The meeting schedule is: June 19, 2007 in Midland, Texas; June 21, 2007 in Buffalo, Texas; June 26, 2007 in Mattoon, Illinois; and June 28, 2007 in Tuscola, Illinois. Informational sessions will be held at each location from 4 p.m. to 7 p.m., preceding the formal presentations and formal comment period from 7 p.m. to 9 p.m. See the SUPPLEMENTARY INFORMATION section for details on the meeting process and locations.

ADDRESSES: Requests for information about this draft EIS and requests to receive a copy of the draft EIS should be directed to: Mr. Mark L. McKoy, NEPA Document Manager, U.S. Department of Energy, National Energy Technology Laboratory, P.O. Box 880, Morgantown, WV 26507-0880, Attn: FutureGen Project EIS. Mr. McKoy can also be contacted by telephone at (304) 285-4262, toll free at 1-800-432-8330 (extension 4262), fax 304-285-4403, or e-mail FutureGen.EIS@netl.doe.gov. Additional information about the draft EIS may also be requested or messages recorded by calling the FutureGen telephone line at (304) 285-4262, or toll free at (800) 432-8330 (extension 4262). The draft EIS will be available via the Internet at http://www.eh.doe.gov/nepa/. Copies of the draft EIS are also available for public review at the locations listed in the SUPPLEMENTARY INFORMATION section of this Notice.

Written comments on the draft EIS can be mailed to Mr. Mark L. McKoy, NEPA Document Manager, at the address noted above. Written comments may also be submitted by fax to: (304) 285-4403; or submitted electronically to: FutureGen.EIS@netl.doe.gov. In addition to providing oral comments during the public hearings, oral comments on the draft EIS may be recorded by calling the FutureGen telephone line at (304) 285-4262, or toll free at (800) 432-8330 (extension 4262).

For Additional Information: For further information on the proposed project or the draft EIS, contact Mr. Mark L. McKoy as directed above. For general information regarding the DOE NEPA process, please contact: Ms. Carol M. Borgstrom, Director, Office of NEPA Policy and Compliance (GC-20), U.S. Department of Energy, 1000 Independence Avenue, SW., Washington, DC 20585-0119, Telephone: (202) 586-4600, or leave a message at (800) 472-2756.

SUPPLEMENTARY INFORMATION:

Background

President Bush proposed on February 27, 2003, that the United States undertake a $1 billion, 10-year project to build the world's first coal-fueled plant to produce electricity and hydrogen with near-zero emissions. In response to this announcement, the DOE developed plans for the FutureGen Project, which would establish the technical and economic feasibility of producing electricity and hydrogen from coal—a low-cost and abundant energy resource—while capturing and geologically storing the CO2 generated in the process.

DOE would implement the FutureGen Project through a Cooperative Agreement that provides financial assistance to the FutureGen Alliance, Inc., a non-profit corporation that represents a global coalition of coal and energy companies. The Alliance members are: American Electric Power Company, Inc. (Columbus, OH); Anglo American, LLC (London, UK); BHP Billiton Limited (Melbourne, Australia); China Huaneng Group (Beijing, China); CONSOL Energy, Inc. (Pittsburgh, PA); E.ON U.S. LLC (Louisville, KY); Foundation Coal Holdings, Inc. (Linthicum Heights, MD); Peabody Energy Corporation (St. Louis, MO); PPL Corporation (Allentown, PA); Rio Tinto Energy America (Gillette, WY); Southern Company (Atlanta, GA); and Xstrata Coal (Sydney, Australia). Several foreign governments have entered into discussions with DOE regarding possible contributions.

Description of Alternatives

DOE analyzed four alternative sites and the No Action Alternative. Under the No Action Alternative DOE would not share in the cost for constructing and operating the FutureGen Project. Without DOE funding, neither the Alliance nor U.S. industry would likely undertake the commercial scale integration of CO2 capture and geologic sequestration in deep saline reservoirs with a coal-fueled power plant in a comparable timeframe.

Under the proposed action, DOE would provide financial assistance to the Alliance to plan, design, construct, and operate the FutureGen Project. DOE has identified four potential sites and, based on the EIS, will determine which sites, if any, are acceptable to DOE to host the FutureGen Project. The four sites currently being considered as reasonable alternatives for the FutureGen Project are: Mattoon, Illinois; Tuscola, Illinois; Jewett, Texas; and Odessa, Texas. The FutureGen Project would include a coal-fueled electric power and hydrogen production plant. The power plant would be a 275-megawatt (MW) output Integrated Gasification Combined Cycle (IGCC) system combined with CO2 capture and geologic storage at a rate of at least 1.1 million tons of CO2 per year.

The draft EIS analyzes the environmental consequences that may result from the proposed action at each of the four candidate sites. Potential impacts identified during the scoping process and analyzed in the draft EIS relate to: Air quality; climate and meteorology; geology; physiography and soils; groundwater; surface water; wetlands and floodplains; biological resources; cultural resources; land use; aesthetics; transportation and traffic noise and vibration; utility systems; materials and waste management; human health, safety, and accidents; community services; socioeconomics; and environmental justice.

Availability of the Draft EIS

Copies of the draft EIS have been distributed to members of Congress, Federal, State, and local officials, and agencies, organizations, and individuals who may be interested or affected. The draft EIS will be available on the Internet at: http://www.eh.doe.gov/nepa/. Additional copies can also be requested by contacting the NEPA Document Manager, as indicated above under ADDRESSES. Copies of the draft EIS are also available for public review at the locations listed below.

Mattoon Public Library, 1600 Charleston Avenue, Mattoon, IL 61938.

Tuscola Public Library, 112 East Sale Street, Tuscola, IL 61953.

Fairfield City Library (near Jewett), 350 W. Main Street, Fairfield, TX 75480.

University of Texas of the Permian Basin, J. Conrad Dunagan Library, Main Floor, 4901 E. University Avenue, Odessa, TX 79762-0001.

Additional information about the FutureGen Project can be found at these web sites: http://www.doe.gov; http://fossil.energy.gov/programs/powersystems/futuregen/; or http://www.futuregenalliance.org.

Public Meetings

DOE will conduct public hearings near each of the four candidate sites to obtain comments on the draft EIS. Requests to speak at the public hearings can be made by calling or writing to the NEPA Document Manager (see ADDRESSES). Requests to speak that have not been submitted prior to the hearing will be accepted in the order in which they are received during the hearing. Speakers are encouraged to provide a written version of their oral comments or supplementary materials for the record. Each speaker will be allowed approximately five minutes to present comments. Those speakers who want more than five minutes should indicate the length of time desired in their request. Depending on the number of speakers, DOE may need to limit all speakers to five minutes initially and provide additional opportunities as time permits. Comments will be recorded by a court reporter and will become part of the public record. Oral and written comments will be given equal consideration.

Each hearing will begin with an information session at approximately 4 p.m., followed by formal presentations and a formal comment session beginning at approximately 7 p.m. DOE will begin each meeting's formal session with an overview of the proposed FutureGen Project, followed by oral statements by the scheduled speakers. Speakers may be asked questions to help ensure that DOE fully understands the comments. A presiding officer will establish the order of speakers and provide any additional procedures necessary to conduct the meetings.

All meetings will be accessible to people with disabilities. Any individual with a disability requiring special assistance, such as a sign language interpreter, or a translator, should contact Mr. Mark McKoy, the NEPA Document Manager, (See ADDRESSES) at least 48 hours in advance of the meeting so that arrangements can be made.

Meeting Schedule

Texas—Odessa Site.

Date: June 19, 2007.

Place: Center for Energy and Economic Diversification (CEED) Building, 1400 North FM 1788, Midland, TX 79707.

Texas—Jewett Site.

Date: June 21, 2007.

Place: Buffalo Civic Center, 941 North Hill Street, Buffalo, TX 75831 (Located near the intersection of US-79 and I-45).

Illinois—Mattoon Site.

Date: June 26, 2007.

Place: Riddle Elementary School, 4201 Western Avenue, Mattoon, IL 61938 (Located at the corner of Western Avenue and 43rd Street [CR 300E]).

Illinois—Tuscola Site.

Date: June 28, 2007.

Place: Tuscola Community Building, 122 W. Central Avenue, Tuscola, IL 61953. (From I-57, take exit 212 to U.S. Hwy 36 and continue to the intersection of North Central Ave. and South Main Street).

Issued in Washington, DC, on May 25, 2007.
Mark J. Matarrese,
Director, Office of Environment, Security, Safety and Health, Office of Fossil Energy.

[FR Doc. E7-10563 Filed 5-31-07; 8:45 am]

BILLING CODE 6450-01-P